DEPARTMENT OF COMMERCE

National Oceanic and Atmospheric Administration

[I.D. 061504C]

Endangered Species; File No. 1432

AGENCY: National Marine Fisheries Service (NMFS), National Oceanic and Atmospheric Administration (NOAA), Commerce.

ACTION: Issuance of permit.

SUMMARY: Notice is hereby given that Jeanette Wyneken, Ph.D., [Principal Investigator], Department of Biological Sciences, Florida Atlantic University, 777 Glades Rd., Boca Raton, FL 33431, has been issued a permit to take loggerhead sea turtles (Caretta caretta) for purposes of scientific research.

ADDRESSES: The permit and related documents are available for review upon written request or by appointment in the following office(s):

Permits, Conservation and Education Division, Office of Protected Resources, NMFS, 1315 East-West Highway, Room 13705, Silver Spring, MD 20910; phone (301)713-2289; fax (301)713-0376; and

Southeast Region, NMFS, 9721 Executive Center Drive North, St. Petersburg, FL 33702-2432; phone (727)570-5301; fax (727)570-5320.

FOR FURTHER INFORMATION CONTACT: Ruth Johnson or Patrick Opay, (301)713-2289.

SUPPLEMENTARY INFORMATION: On May 10, 2004, notice was published in the Federal Register (69 FR 25882) that a request for a scientific research permit to take the species identified above had been submitted by the above-named individual. The requested permit has been issued under the authority of the Endangered Species Act of 1973, as amended (ESA; 16 U.S.C. 1531 et seq.), and the regulations governing the taking, importing, and exporting of endangered and threatened species (50 CFR parts 222-226).

The Holder is authorized to take up to 30 loggerhead sea turtle hatchlings per site at 10 sites (Onslow Beach, Kiawah Island, Hilton Head Island, Wassaw Island, Melbourne Beach, Hutchinson Island, Juno Beach, Boca Raton, Sanibel/Captiva and vicinity including waters near Ft. Meyers, and Sarasota) for scientific research. Turtles will be captured on the beach under permits issued by the States of North Carolina, South Carolina, Georgia, and Florida, and attached with a “Witherington Float.” The turtles will be released at water's edge and followed to determine survivability. Turtles that are not lost to predators will be recaptured, the tether removed and released.

In compliance with the National Environmental Policy Act of 1969 (42 U.S.C. 4321 et seq.), an environmental assessment was prepared analyzing the effects of the permitted activities. After a Finding of No Significant Impact, the determination was made that it was not necessary to prepare an environmental impact statement.

Issuance of this permit, as required by the ESA, was based on a finding that such permit (1) was applied for in good faith, (2) will not operate to the disadvantage of the endangered species which is the subject of this permit, and (3) is consistent with the purposes and policies set forth in section 2 of the ESA.

Dated: July 1, 2004.
Stephen L. Leathery,
Chief, Permits, Conservation and Education Division, Office of Protected Resources, National Marine Fisheries Service.

[FR Doc. 04-15546 Filed 7-7-04; 8:45 am]

BILLING CODE 3510-22-S